DEPARTMENT OF COMMERCE

Foreign-Trade Zones Board

[B-36-2017]

Foreign-Trade Zone (FTZ) 64—Jacksonville, Florida; Notification of Proposed Production Activity; Hans-Mill Corporation; Subzone 64D; (Household Trash Cans and Plastic Storage Totes); Jacksonville, Florida

Hans-Mill Corporation (Hans-Mill), operator of Subzone 64D, submitted a notification of proposed production activity to the FTZ Board for its facility within Subzone 64D, in Jacksonville, Florida. The notification conforming to the requirements of the regulations of the FTZ Board (15 CFR 400.22) was received on May 10, 2017.

The facility is used for the production of household trash cans and plastic storage totes. Pursuant to 15 CFR 400.14(b), FTZ activity would be limited to the specific foreign-status materials/components and specific finished products described in the submitted notification (as described below) and subsequently authorized by the FTZ Board.

Production under FTZ procedures could exempt Hans-Mill from customs duty payments on the foreign-status materials/components used in export production (an estimated five percent of shipments). On its domestic sales, Hans-Mill would be able to choose the duty rates during customs entry procedures that apply to stainless steel/plastic trash cans and plastic storage totes, trash cans and liners (duty rates—2 or 3%) for the foreign-status materials/components noted below. Customs duties also could possibly be deferred or reduced on foreign-status production equipment.

The materials/components sourced from abroad include pre-cut/pre-treated stainless steel sheets, plastic lids, plastic bases, pulp packaging material and polypropylene resin material (duty rates range from free to 6.5%). The request indicates that stainless steel sheets are subject to an antidumping/countervailing duty (AD/CVD) order. The FTZ Board's regulations (15 CFR 400.14(e)) require that merchandise subject to AD/CVD orders be admitted to the zone in privileged foreign status (19 CFR 146.41).

Public comment is invited from interested parties. Submissions shall be addressed to the FTZ Board's Executive Secretary at the address below. The closing period for their receipt is July 12, 2017.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: May 26, 2017.
Elizabeth Whiteman,
Acting Executive Secretary.

[FR Doc. 2017-11416 Filed 6-1-17; 8:45 am]

BILLING CODE 3510-DS-P